FEDERAL COMMUNICATIONS COMMISSION

Notice of Public Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission (FCC) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees.

The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before February 28, 2014. If you anticipate that you will be submitting comments, but find it difficult to do so within the period of time allowed by this notice, you should advise the FCC contact listed below as soon as possible.

ADDRESSES: Submit your PRA comments to Leslie F. Smith, Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION: OMB Control Number: 3060-1186.

Title: Rural Call Completion, WC Docket No. 13-39.

Form Number: N/A.

Type of Review: Revision to a currently pre-approved collection.

Respondents: Businesses or other for-profit entities.

Number of Respondents and Responses: 225 respondents; 940 responses.

Estimated Time per Response: 12 hours (average).

Frequency of Response: Quarterly and one-time reporting requirements and recordkeeping.

Obligation to Respond: Required to obtain or retain benefit. The statutory authority for the information collection requirements are contained in section contained in 47 U.S.C. 151, 154(i), 201(b), 202(a), 218, 220(a), 251(a), 403.

Total Annual Burden: 11,280 hours.

Total Annual Cost: $793,750.

Privacy Impact Assessment: No impact(s).

Nature and Extent of Confidentiality: An assurance of confidentiality is not offered because this information collection does not require the collection of personally identifiable information from individuals. If the FCC requests that respondents submit information which respondents believe is confidential, respondents may request confidential treatment of such information pursuant to Section 0.459 of the FCC's rules, 47 CFR Section 0.459.

Needs and Uses: The rules adopted in the Rural Call Completion Report and Order (“Order”), WC Docket No. 13-39, FCC 13-135, require covered providers to record, retain and report call completion data. Covered providers are providers of long-distance voice service that make the initial long-distance call path choice for more than 100,000 domestic retail subscriber lines. These providers generally must collect call completion data, retain such data for six months, and file quarterly reports with the Commission. The collection of this data will give the Commission the information it needs to investigate rural call completion problems. In addition to the recordkeeping, retention, and reporting obligations described above, the Order also requires certain providers to file a one-time letter in the docket explaining that they do not make the initial long-distance call path choice and identifying the long-distance provider or providers to which they hand off their end-user customers' calls. Finally, the Order encourages rural incumbent local exchange carriers to report quarterly on the number of incoming long-distance call attempts received, the number answered on its network, and the call answer rate calculation for each of the previous three months.

Federal Communications Commission.
Gloria J. Miles,
Federal Register Liaison, Office of the Secretary, Office of Managing Director.

[FR Doc. 2013-31177 Filed 12-27-13; 8:45 am]

BILLING CODE 6712-01-P